DEPARTMENT OF COMMERCE

National Oceanic and Atmospheric Administration

50 CFR Part 660

[Docket No. 060427113-6113-01; I.D. 092106E]

Fisheries Off West Coast States and in the Western Pacific; West Coast Salmon Fisheries; Inseason Action #3 - Adjustment of the Commercial Salmon Fishery from the U.S.-Canada Border to Cape Falcon, Oregon

AGENCY: National Marine Fisheries Service (NMFS), National Oceanic and Atmospheric Administration (NOAA), Commerce.

ACTION: Modification of fishing seasons; request for comments.

SUMMARY: NMFS announces that the commercial salmon fishery in the area from the U.S.-Canada Border to Cape Falcon, OR, was modified such that the fishery did not reopen on June 17, 2006, as scheduled and remained closed through Monday, June 26, 2006. The fishery then reopened on June 27 through midnight June 30, 2006, with a 20-Chinook per vessel possession and landing limit for the four day open period. On June 15, 2006, NMFS determined that available catch and effort data indicated that the quota of 22, 450 Chinook salmon for May and June would be exceeded unless modified by inseason action. This action was necessary to conform to the 2006 management goals.

DATES: Closure effective 2359 hours local time (l.t.), June 17, 2006, after which the fishery remained closed through Monday, June 26, 2006. The fishery then reopened as scheduled on Tuesday, June 27, 2006 through 2359 hours local time (l.t.) June 30, 2006. The fishery was then again closed until the effective date of the next scheduled open period announced in the 2006 annual management measures. Comments will be accepted through October 12, 2006.

ADDRESSES: Comments on this action must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2006salmonIA3.nwr@noaa.gov address, or through the internet at the Federal eRulemaking Portal: http://www.regulations.gov. Follow the instructions for submitting comments, and include [060427113-6113-01 and/or I.D. 092106E] in the subject line of the message. Information relevant to this document is available for public review during business hours at the Office of the Regional Administrator, Northwest Region, NMFS.

FOR FURTHER INFORMATION CONTACT: Sarah McAvinchey, 206-526-4323.

SUPPLEMENTARY INFORMATION: In the 2006 annual management measures for ocean salmon fisheries (71 FR 26254, May 4, 2006), NMFS announced the commercial salmon fishery in the area from the U.S.-Canada Border to Cape Falcon, OR, would open May 1 through earlier of June 30 or a 22,450 Chinook quota; open May 1-2 with a 75 Chinook per vessel landing and possession limit for the 2-day open period; beginning May 6, open Saturday through Tuesday with an 80-Chinook per vessel possession and landing limit for each 4-day open period. If sufficient quota remains to prosecute openings prior to the June 24-27 open period, the remaining quota would be provided for a June 27-30 open period with a per vessel land and possession limit to be determined inseason.

On June 15, 2006, the Regional Administrator (RA) consulted with representatives of the Pacific Fishery Management Council, Washington Department of Fish and Wildlife, and Oregon Department of Fish and Wildlife. Information related to catch to date, the Chinook catch rate, and effort data indicated that there was insufficient Chinook remaining in the quota to allow for the fishery to continue as scheduled. As a result, the states recommended, and the Regional Administrator concurred, that the commercial salmon fishery in the area from the U.S.-Canada Border to Cape Falcon, OR, would not reopen as scheduled on June 17, and would remain closed through Monday, June 26, 2006. The fishery then reopened on June 27 through midnight June 30, 2006, with a 20-Chinook per vessel possession and landing limit for the four day open period. All other restrictions that apply to this fishery remained in effect as announced in the 2006 annual management measures.

This action was necessary to conform to the 2006 management goals, and the intended effect was to allow the fishery to operate within the seasons and quotas specified in the 2006 annual management measures. Automatic season closures based on quotas are authorized by regulations at 50 CFR 660.409(a)(1).

The RA determined that the best available information indicated that the catch and effort data, and projections, supported the above inseason action recommended by the states. The states manage the fisheries in state waters adjacent to the areas of the U.S. exclusive economic zone in accordance with this Federal action. As provided by the inseason notice procedures of 50 CFR 660.411, actual notice to fishers of the above described action was given prior to the time the action was effective by telephone hotline number 206-526-6667 and 800-662-9825, and by U.S. Coast Guard Notice to Mariners broadcasts on Channel 16 VHF-FM and 2182 kHz. This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (71 FR 26254, May 4, 2006), the West Coast Salmon Plan, and regulations implementing the West Coast Salmon Plan 50 CFR 660.409 and 660.411. Prior notice and opportunity for public comment was impracticable because NMFS and the state agency have insufficient time to provide for prior notice and the opportunity for public comment between the time the fishery catch and effort data are collected to determine the extent of the fisheries, and the time the fishery closure must be implemented to avoid exceeding the quota. Because of the rate of harvest in this fishery, failure to modify the fishing schedule would allow the quota to be exceeded, resulting in fewer spawning fish and possibly reduced yield of the stocks in the future. For the same reasons, the AA also finds good cause to waive the 30-day delay in effectiveness required under U.S.C. 553(d)(3).

This action is authorized by 50 CFR 660.409 and 660.411 and is exempt from review under Executive Order 12866.

Authority: 16 U.S.C. 1801 et seq.

Dated: September 22, 2006.
Alan D. Risenhoover,
Director, Office of Sustainable Fisheries, National Marine Fisheries Service.

[FR Doc. E6-15900 Filed 9-26-06; 8:45 am]

BILLING CODE 3510-22-S